DEPARTMENT OF ENERGY

Federal Energy Regulatory Commission

[Project No. 9100-041]

James M. Knott; James M. Knott, Jr.; Notice of Application for Transfer of License and Soliciting Comments, Motions To Intervene, and Protests

On January 8, 2019, James M. Knott, Jr. (transferee) filed an application for an after-the-fact transfer of license of the Riverdale Mills Project No. 9100. The project is located on the Blackstone River in Worcester County, Massachusetts. The project does not occupy Federal lands.

The applicant seeks Commission approval to transfer the license for the Riverdale Mills Project from James M. Knott (transferor) to the transferee. James M. Knott passed away on August 16, 2018 and James M. Knott, Jr. has been operating the project since that time.

Applicant's Contacts: Mr. James M. Knott, Jr., CFO, 130 Riverdale Street, PO Box 920, Northbridge, MA 01534-0920, Phone: 508-847-2722, Email: jknott@riverdale.com and Mr. Kevin Young, President, 2112 Talmage Drive, Leland, NC 28541, Phone: 910-399-6838, Email: KYoung@youngenergyservices.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-9100-041.

Dated: February 21, 2019.
Kimberly D. Bose,
Secretary.

[FR Doc. 2019-03443 Filed 2-27-19; 8:45 am]

BILLING CODE 6717-01-P